COMMISSION ON CIVIL RIGHTS

Sunshine Act Notice

AGENCY: U.S. Commission on Civil Rights.

DATE AND TIME: Friday, November 15, 2002, 8:30 a.m.

PLACE: Holiday Inn on the Bay Hotel, 1355 North Harbor Drive, San Diego, CA 92101.

Status:

Agenda

I. Approval of Agenda

II. Approval of Minutes of July 19 Meeting; Acknowledgment September 13 and October 11, 2002 “Meetings”

III. Announcements

IV. Staff Director's Report

V. State Advisory Committee Appointments for Arkansas, Georgia, Illinois, New Hampshire, New York, Oklahoma, Texas and Tennessee

VI. State Advisory Committee Report: Civil Rights Issues in West Virginia (West Virginia)

VII. FY-2004 Budget Estimate to OMB

VIII. Discussion of Status of Commission Projects

IX. Presentations from Western Regional SAC members representing Arizona and California on recent activities and other civil rights developments in their states

X. Presentations and Discussion Relating to Challenges of Equal Opportunity in Higher Education

CONTACT PERSON FOR FURTHER INFORMATION: Les Jin, Press and Communications (202) 376-7700.

Debra A. Carr,
Deputy General Counsel.

[FR Doc. 02-28719 Filed 11-6-02; 2:56 pm]

BILLING CODE 6335-01-M